DEPARTMENT OF COMMERCE

National Oceanic and Atmospheric Administration

[I.D. 081501C]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Scallop Oversight Committee and Scientific and Statistical Committee (SSC) in September, 2001 to consider actions affecting New England fisheries in the exclusive economic zone (EEZ). Recommendations from these groups will be brought to the full Council for formal consideration and action, if appropriate.

DATES: The meetings will be held on September 6 & 7, 2001. See SUPPLEMENTARY INFORMATION for specific dates and times.

ADDRESSES: The meetings will be held in Warwick, RI and Newburyport, MA. See SUPPLEMENTARY INFORMATION for specific locations.

Council address: New England Fishery Management Council, 50 Water Street, Mill 2, Newburyport, MA 01950; telephone: (978) 465-0492.

FOR FURTHER INFORMATION CONTACT: Paul J. Howard, Executive Director, New England Fishery Management Council (978) 465-0492.

SUPPLEMENTARY INFORMATION:

Meeting Dates and Agendas

Thursday, September 6, 2001 at 10:00 a.m.- Scallop Oversight Committee Meeting.

Location: Radisson Airport Hotel, 2081 Post Road, Warwick, RI 02886; telephone: (401) 739-3000.

The Oversight Committee will receive a report on potential management options and recommend alternatives that the Council should consider in Draft Amendment 10 and analyze in a Draft Supplemental Environmental Impact Statement (DSEIS). They will consider alternatives that were not previously considered at the August 3, 2001 meeting or previously approved at the July Council meeting. The Council will consider Oversight Committee recommendations on these or other Amendment 10 management options at its September 25-27, 2001 meeting. Alternatives recommended by the Scallop Plan Development Team (PDT) that will be discussed by the Oversight Committee include, but are not limited to: measures to reduce impacts on essential fish habitat; general category management measures including a proposal for limited access; industry-funded research and observer programs including total allowable catch (TAC)/days-at-sea (DAS) set-asides; experimental Fishing Permit procedures and research including TAC/DAS set-asides; data collection and monitoring, and other options as needed.

Friday, September 7, 2001 at 9:30 a.m.F - Scientific and Statistical Committee Meeting.

Location: Rossi’s Restaurant, 50 Water Street, Newburyport, MA 01950; telephone: (978) 499-0240.

The SSC will review the Scallop PDT recommendations for status determination criteria (overfishing definition) for scallops under rotational area management. They will develop guidance for the Council regarding Skate PDT recommendations for skate status determination criteria. The agenda will also include the review of the Red Crab PDT recommendations for red crab status determination criteria (overfishing definition). The committee will also develop guidance for Council on including Stock Assessment Workshop (SAW) 33 results for white hake, redfish and Gulf of Maine cod in Multispecies Amendment 13.

Although non-emergency issues not contained in this agenda may come before this group for discussion, those issues may not be the subject of formal action during this meeting. Action will be restricted to those issues specifically listed in this notice and any issues arising after publication of this notice that require emergency action under section 305 (c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: August 16, 2001.
Richard W. Surdi,
Acting Director, Office of Sustainable Fisheries, National Marine Fisheries Service.

[FR Doc. 01-21208 Filed 8-21-01; 8:45 am]

BILLING CODE 3510-22-S